DEPARTMENT OF LABOR

Employment and Training Administration

[TA-W-62,802]

Shorewood Packaging Corporation, a Subsidiary of International Paper, Home Entertainment Division, Edison, NJ; Notice of Negative Determination on Reconsideration

On July 16, 2008, the Department issued an Affirmative Determination Regarding Application for Reconsideration for the workers and former workers of the subject firm. The notice was published in the Federal Register on July 28, 2008 (73 FR 43787).

The initial investigation resulted in a negative determination based on the finding that imports of printed paper primarily for music and gaming packaging did not contribute importantly to worker separations at the subject firm and no shift of production to a foreign source occurred.

In the request for reconsideration the petitioner provided an additional list of customers, who purchased packaging products for the pharmaceutical and cosmetic industries.

On reconsideration the Department of Labor contacted the company official of the subject firm to verify the information addressed by the petitioner and requested an additional list of customers. The Department surveyed these customers regarding their purchases of like or directly competitive products with printed paper for packaging during 2006, 2007, and January through February 2008 over the corresponding 2007 period. The survey revealed that only one customer imported printed paper for packaging, however imports by this customer have been declining during the relevant period. The remaining customers did not import like or directly competitive products with printed paper for packaging during the relevant period.

The petitioner also alleged that Shorewood Packaging Corporation “had plans to open new facilities in Europe and Asia” and that Shorewood Packaging was outsourcing jobs from the subject firm overseas.

The company official of the subject firm confirmed that Shorewood Packaging Corporation has facilities abroad and described the functions of each facility. However, the company official stated that there was no shift in production from the subject firm to any foreign facility in the relevant period. The company official clarified that the reason behind the closure of the subject firm was the change in the market for the products manufactured by the Edison facility.

Conclusion

After reconsideration, I affirm the original notice of negative determination of eligibility to apply for worker adjustment assistance for workers and former workers of Shorewood Packaging Corporation, a subsidiary of International Paper, Home Entertainment Division, Edison, New Jersey.

Signed at Washington, DC, this 17th day of September 2008.
Elliott S. Kushner,
Certifying Officer, Division of Trade Adjustment Assistance.

[FR Doc. E8-22402 Filed 9-23-08; 8:45 am]

BILLING CODE 4510-FN-P